ENVIRONMENTAL PROTECTION AGENCY

[FRL-9912-62-Region 5]

Notice of Issuance of Minor New Source Review Construction Permit to Shooting Star Casino and Event Center

AGENCY: Environmental Protection Agency (EPA).

ACTION: Notice.

SUMMARY: This notice announces that, on April 15, 2014, pursuant to the Federal Minor New Source Review (NSR) Program in Indian Country, the Environmental Protection Agency (EPA) issued a minor new source review construction permit to the White Earth Nation of the Minnesota Chippewa Tribe for the Shooting Star Casino and Event Center in Mahnomen, Minnesota. The casino is located on the White Earth Nation's reservation. White Earth Nation owns and operates the Shooting Star Casino and Event Center, including two fuel oil-fired boilers and two propane-fired boilers used for space heating. The final minor NSR construction permit authorizes the construction of a new biomass-fired boiler and establishes annual operating hour limitations on the new and existing boilers at the casino.

DATES: The final minor NSR permit was issued on April 15, 2014. The final permit becomes effective on May 15, 2014.

ADDRESSES: The final signed permit is available for public inspection online at http://yosemite.epa.gov/r5/r5ard.nsf/Tribal+Permits!OpenView, or during normal business hours at the following address: U.S. Environmental Protection Agency, Region 5, Air and Radiation Division, 77 West Jackson Boulevard, Chicago, Illinois, 60604. We recommend that you call Michael Langman, Environmental Scientist, at (312) 886-6867 before visiting the Region 5 office.

FOR FURTHER INFORMATION CONTACT: Michael Langman, Environmental Scientist, Air Permits Section, Air Programs Branch (AR-18J), Environmental Protection Agency, Region 5, 77 West Jackson Boulevard, Chicago, Illinois 60604, (312) 886-6867, langman.michael@epa.gov.

SUPPLEMENTARY INFORMATION: Throughout this document whenever “we,” “us,” or “our” is used, we mean EPA.

A. What is the background information?

The White Earth Nation of the Minnesota Chippewa Tribe owns and operates two fuel oil-fired and two propane-fired boilers at its Shooting Star Casino and Event Center in Mahnomen, Minnesota. The casino and the four boilers are located on the White Earth Nation of the Minnesota Chippewa Tribe's reservation. The boilers are used for space heating at the casino.

On September 10, 2013, EPA received a permit application from TSS Consultants on behalf of the White Earth Nation of the Minnesota Chippewa Tribe requesting a minor NSR construction to be permit issued pursuant to the requirements of the Federal Minor New Source Review Program in Indian Country, codified at 40 CFR 49.151-49.161. In its application, the White Earth Nation of the Minnesota Chippewa Tribe specifically requested the construction of a new 5 MMBTU/hr biomass-fired boiler and annual operating hour limitations on the existing propane- and fuel oil-fired boilers at the facility. The new biomass-fired boiler will provide space heating to the facility alongside the existing boilers.

On October 24, 2013, EPA determined that the permit application was administratively complete pursuant to the permit application requirements of 40 CFR 49.154. Based on the information in the application, EPA prepared a draft permit for public review according to the permit content requirements at 40 CFR 49.155 in which EPA proposed to authorize the construction of the new biomass-fired boiler and to establish annual operating hour limitations for all new and existing boilers at the casino as requested in the permit application.

In accordance with the public participation requirements of 40 CFR 49.157, EPA mailed the public notice and the draft permit documents to all required parties. EPA also mailed the public notice, the draft permit documents, and a copy of the application to the Mahnomen Public Library to facilitate review for interested members of the public in the area. EPA published the public notice in the Mahnomen Pioneer, a newspaper with local circulation in the affected area, on February 20, 2014. The public comment period ended on March 24, 2014, 30 days after publication in the Mahnomen Pioneer.

During the public comment period, EPA received one comment letter from the Minnesota Historical Society. The Minnesota Historical Society concurred with EPA's National Historic Preservation Act conclusion and also reminded EPA that the White Earth Nation's Tribal Historic Preservation Officer shares review responsibility with the Minnesota Historical Society. The comment letter did not specifically request any permit changes or object to any permit conditions.

EPA issued a final minor NSR construction permit, permit number MIN-WE-27087R0001-2013-01, on April 15, 2014, in accordance with the final permit issuance requirements of 40 CFR 49.159. The final permit became effective on May 15, 2014. EPA sent the final permit decision and a copy of the final permit documents to the Shooting Star Casino and Event Center on April 17, 2014. EPA posted the final permit decision and final permit documents on its Web site at http://yosemite.epa.gov/r5/r5ard.nsf/Tribal+Permits!OpenView.

B. What is the purpose of this notice?

EPA is notifying the public of the issuance of a minor NSR construction permit, number MIN-WE-27087R0001-2013-01, issued to the White Earth Nation of the Minnesota Chippewa Tribe, on April 15, 2014. The permit became effective on May 15, 2014.

Authority: 42 U.S.C. 7401 et seq.

Dated: June 10, 2014.
Susan Hedman,
Regional Administrator, Region 5.

[FR Doc. 2014-14673 Filed 6-23-14; 8:45 am]

BILLING CODE 6560-50-P